DEPARTMENT OF TRANSPORTATION

Federal Aviation Administration

14 CFR Part 39

[Docket No. 2000-NM-104-AD; Amendment 39-11977; AD 2000-23-07]

RIN 2120-AA64

Airworthiness Directives; Airbus Model A300, A300-600, and A310 Series Airplanes

AGENCY: Federal Aviation Administration, DOT.

ACTION: Final rule.

SUMMARY: This amendment supersedes an existing airworthiness directive (AD), applicable to certain Airbus Model A300 and all Model A300-600 and A310 series airplanes, that currently requires performing a pitch trim system test to detect any continuity defect in the autotrim function, and follow-on corrective actions, if necessary. This amendment requires repetitive inspections of the autotrim function to detect such defects, and corrective actions, if necessary. This amendment also expands the applicability to include additional airplanes. This amendment is prompted by issuance of mandatory continuing airworthiness information by a foreign civil airworthiness authority. The actions specified by this AD are intended to prevent a sudden change in pitch due to an out-of-trim condition combined with an autopilot disconnect, which could result in reduced controllability of the airplane.

DATES: Effective December 20, 2000.

The incorporation by reference of certain publications listed in the regulations is approved by the Director of the Federal Register as of December 20, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding AD 2000-02-04, amendment 39-11522 (65 FR 3799, January 25, 2000), which is applicable to certain Airbus Model A300 and all Model A300-600 and A310 series airplanes, was published in the Federal Register on June 12, 2000 (65 FR 36801). The action proposed to supersede AD 2000-02-04 to continue to require performing a pitch trim system test to detect any continuity defect in the autotrim function, and follow-on corrective actions, if necessary. The action also proposed to require repetitive inspections of the autotrim function to detect such defects, and corrective actions, if necessary.

Comments

Interested persons have been afforded an opportunity to participate in the making of this amendment. Due consideration has been given to the comments received.

Request To Revise Applicability

The manufacturer, Airbus, requests that the applicability of the proposed AD be revised to exclude Model A300-600 series airplanes on which Airbus Modification 12277 has been accomplished during production. In addition, since the issuance of the proposed AD, the Direction Générale de l'Aviation Civile (DGAC), which is the airworthiness authority for France, issued French airworthiness directive 2000-115-304(B) R2, dated July 12, 2000, as revised by Erratum, dated August 9, 2000, to exclude those airplanes from the applicability. The FAA concurs with the commenter's request, and has revised the applicability of this final rule accordingly.

Request To Revise Reporting Requirement

The Air Transport Association (ATA) of America, on behalf of one of its members, requests that the reporting requirement specified in the proposed AD be revised to require that inspection findings be reported to Airbus on a monthly basis, rather than 10 days following each inspection. The commenter states that since any necessary corrective actions would occur immediately as a result of the inspection findings, monthly reporting would not affect the safe operation of the airplane. For certain airlines, monthly reporting would greatly simplify the administrative tasks associated with ongoing reporting.

The FAA concurs partially. The FAA agrees that corrective actions, if necessary, would be required prior to further flight; therefore, extension of the compliance time in question will not affect the safe operation of the airplane. However, the FAA considers that requiring report submittals on a monthly basis could lead to possible misinterpretation as to the specific deadline for submission of each report.

In light of this, the FAA has revised the final rule to require submission of each report within 30 days after accomplishing each inspection (for inspections accomplished after the effective date of this AD), or within 30 days after the effective date of the AD (for inspections accomplished prior to the effective date of this AD). Operators are provided with additional time to submit each report, and may choose to combine submittals of all reports for the past 30 days, which would reduce the administrative burden. Paragraph (b) of this AD has been revised accordingly.

Conclusion

After careful review of the available data, including the comments noted above, the FAA has determined that air safety and the public interest require the adoption of the rule with the changes previously described. The FAA has determined that these changes will neither increase the economic burden on any operator nor increase the scope of the AD.

Interim Action

This is considered to be interim action for Model A300-600 and A310 series airplanes. The manufacturer has advised that it currently is developing a modification that will positively address the unsafe condition addressed by this AD. Once this modification is developed, approved, and available, the FAA may consider additional rulemaking for these airplanes.

Cost Impact

There are approximately 120 airplanes of U.S. registry that will be affected by this AD. The inspection that is required by this AD will take approximately 1 work hour per airplane to accomplish, at an average labor rate of $60 per work hour. Based on these figures, the cost impact of the required action on U.S. operators is estimated to be $7,200, or $60 per airplane.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11522 (65 FR 3799, January 25, 2000), and by adding a new airworthiness directive (AD), amendment 39-11977, to read as follows:

2000-23-07 Airbus Industrie: Amendment 39-11977. Docket 2000-NM-104-AD. Supersedes AD 2000-02-04, Amendment 39-11522.

Applicability: This AD applies to the airplanes listed in Table 1. of this AD, certificated in any category:

Table 1.—Applicability
Airbus model | Description
A300 B2-203 airplanes and A300-B4-203 airplanes | In a forward facing cockpit version, as listed in Airbus Service Bulletin A300-22A0115, Revision 02, dated March 7, 2000.
A310 series airplanes | All.
A300-600 series airplanes | On which Airbus Modification 12277 has not been accomplished during production.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent a sudden change in pitch due to an out-of-trim condition combined with an autopilot disconnect, which could result in reduced controllability of the airplane, accomplish the following:

Repetitive Inspections

(a) At the applicable time specified by paragraph (a)(1) or (a)(2) of this AD: Perform an inspection of the autotrim function by testing the flight control computer (FCC)/flight augmentation computer (FAC) integrity in logic activation of the autotrim, in accordance with Airbus Service Bulletin A300-22A6042, Revision 01 (for Model A300-600 series airplanes); A300-22A0115, Revision 02 (for Model A300 series airplanes); or A310-22A2053, Revision 01 (for Model A310 series airplanes); all dated March 7, 2000; as applicable. If any discrepancy is found, prior to further flight, perform all applicable corrective actions (including trouble-shooting, replacing the FCC and/or FAC, retesting, checking the wires between certain FCC and FAC pins, and repairing damaged wires) in accordance with the applicable service bulletin. Repeat the inspection thereafter at intervals not to exceed 500 flight hours.

(1) For airplanes on which the pitch trim system test has been performed in accordance with the requirements of AD 2000-02-04, amendment 39-11522: Inspect within 500 flight hours after accomplishment of the test required by that AD, or within 20 days after the effective date of this AD, whichever occurs later.

(2) For all other airplanes: Inspect within 20 days after the effective date of this AD.

Reporting Requirement

(b) For all inspections required by paragraph (a) of this AD: At the applicable time specified by paragraph (b)(1) or (b)(2) of this AD, submit a report of the inspection results (both positive and negative findings) to AI/SE-D32 Technical Data and Documentation Services, Airbus Industrie Customer Services Directorate, 1 Rond Point Maurice Bellonte, 31707 Blagnac Cedex France; fax (+33) 5 61 93 28 06.

(1) For inspections accomplished after the effective date of this AD: Submit the report within 30 days after performing the inspection.

(2) For inspections accomplished prior to the effective date of this AD: Submit the report within 30 days after the effective date of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Airbus Service Bulletin A300-22A6042, Revision 01, including Appendix 01, dated March 7, 2000; Airbus Service Bulletin A300-22A0115, Revision 02, including Appendix 01, dated March 7, 2000; or Airbus Service Bulletin A310-22A2053, Revision 01, including Appendix 01, dated March 7, 2000; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2000-115-304(B) R2, dated July 12, 2000, as revised by Erratum, dated August 9, 2000.

(f) This amendment becomes effective on December 20, 2000.

Issued in Renton, Washington, on November 6, 2000.
Donald L. Riggin,
Acting Manager, Transport Airplane Directorate, Aircraft Certification Service.

[FR Doc. 00-28967 Filed 11-14-00; 8:45 am]

BILLING CODE 4910-13-U